ENVIRONMENTAL PROTECTION AGENCY

40 CFR Part 52

[SIP NOS. MT-001-0012; MT-001-0013; MT-001-0014; MT-001-0015 FRL-6582-4]

Approval and Promulgation of Air Quality Implementation Plans; Montana; Emergency Episode Plan, Columbia Falls, Butte and Missoula Particulate Matter State Implementation Plans, Missoula Carbon Monoxide State Implementation Plan; Correction

AGENCY: Environmental Protection Agency (EPA).

ACTION: Direct final rule; correction.

SUMMARY: The EPA published in the Federal Register on December 6, 1999, a document that, among other things, approved updates to Montana's State Implementation Plan (SIP) relating to the Emergency Episode Plan; Columbia Falls, Butte and Missoula Particulate Matter [particulate matter with an aerodynamic diameter less than or equal to a nominal 10 micrometers (PM-10)] SIPS; and the Missoula Carbon Monoxide (CO) Plan. In the December 6, 1999, rule, EPA inadvertently referenced an incorrect citation to Missouri's SIP in the Code of Federal Regulations. EPA is correcting the citation with this document.

EFFECTIVE DATE: This rule is effective on April 21, 2000.

FOR FURTHER INFORMATION CONTACT: Laurie Ostrand, EPA, Region VIII, (303) 312-6437.

SUPPLEMENTARY INFORMATION: Throughout this document wherever “we,” or “our” are used we mean EPA.

Our December 6, 1999 (64 FR 68034) rulemaking indicated that on November 3, 1995 (60 FR 55792) we approved revisions to Montana's prevention of significant deterioration (PSD) regulations. With the November 3, 1995 document we inadvertently codified the revisions into 40 CFR 52.1320(c)(42) in lieu of CFR 52.1370(c)(42). Our December 6, 1999 document indicated that we were removing these revisions from 40 CFR 52.1320(c)(42) and adding them to 40 CFR 52.1370(c)(42). However, when we published the December 6, 1999 rule, we did not realize that on June 29, 1999 (64 FR 34717) 40 CFR 52.1320 had been redesignated as 40 CFR 52.1322. Therefore, our December 6, 1999 document should have removed 40 CFR 52.1322(c)(42) and not 40 CFR 52.1320(c)(42).

Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because we are merely correcting an incorrect citation in a previous action. Thus, notice and public procedure are unnecessary. We find that this constitutes good cause under 5 U.S.C. 553(b)(B).

Administrative Requirements

Under Executive Order (E.O.) 12866 (58 FR 51735, October 4, 1993), this action is not a “significant regulatory action” and is therefore not subject to review by the Office of Management and Budget. Because the agency has made a “good cause” finding that this action is not subject to notice-and-comment requirements under the Administrative Procedure Act or any other statute as indicated in the Supplementary Information section above, it is not subject to the regulatory flexibility provisions of the Regulatory Flexibility Act (5 U.S.C 601 et seq.), or to sections 202 and 205 of the Unfunded Mandates Reform Act of 1995 (UMRA) (Pub. L. 104-4). In addition, this action does not significantly or uniquely affect small governments or impose a significant intergovernmental mandate, as described in sections 203 and 204 of UMRA. This rule also does not significantly or uniquely affect the communities of tribal governments, as specified by Executive Order 13084 (63 FR 27655, May 10, 1998). This rule will not have substantial direct effects on the States, on the relationship between the national government and the States, or on the distribution of power and responsibilities among the various levels of governments, as specified by Executive Order 13132 (64 FR 43255, August 10, 1999). This rule also is not subject to Executive Order 13045 (62 FR 19885, April 23, 1997), because it is not economically significant.

This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA had made such a good cause finding, including the reasons therefore, and established an effective date of April 21, 2000. EPA will submit a report containing this rule and other required information to the U.S. Senate, the U.S. House of Representatives, and the Comptroller General of the United States prior to publication of the rule in the Federal Register. This correction to the identification of plan for Missouri is not a “major rule” as defined by 5 U.S.C. 804(2).

April 7, 2000.
Patricia D. Hull,
Acting Regional Administrator, Region VIII.

In rule FR Doc. 99-31536, published on December 6, 1999 (64 FR 68034), make the following corrections:

PART 52—[CORRECTED]

1. The authority citation for part 52 continues to read as follows:

Authority: 42 U.S.C. 7401 et seq.

Subpart AA—Missouri [Corrected]

2. On page 68038, in the third column, 3 lines from the top of the column, correct “§ 52.1320” to read “§ 52.1322”.

3. On page 68038, in the third column, in amendatory instruction 2, correct “52.1320(c)(42)” to read “52.1322(c)(42)”.

[FR Doc. 00-9926 Filed 4-20-00; 8:45 am]

BILLING CODE 6560-50-P